DEPARTMENT OF HOMELAND SECURITY

Coast Guard

[Docket No. USCG-2011-1156]

Draft Change to Navigation and Inspection Circular 01-13, Inspection and Certification of Vessels Under the Maritime Security Program

AGENCY: Coast Guard, DHS.

ACTION: Notice of availability extending comment period.

SUMMARY: The Coast Guard is extending the public comment period on its draft change to Navigation and Inspection Circular (NVIC) 01-13.

DATES: Submit comments and related material by September 17, 2014. Documents discussed in this notice should be available in the online docket by August 15, 2014.

ADDRESSES: Submit comments using one of the listed methods, and see SUPPLEMENTAL INFORMATION for more information on public comments.

• Online— http://www.regulations.gov following Web site instructions.

• Fax—202-493-2251.

• Mail or hand deliver—Docket Management Facility (M-30, U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: For information about this document, call or email Lieutenant Corydon Heard, Office of Commercial Vessel Compliance (CG-CVC), U.S. Coast Guard; telephone 202-372-1208, email Corydon.F.Heard@uscg.mil. For information about viewing or submitting material to the docket, call Cheryl Collins, Program Manager, Docket Operations, telephone 202-366-9826, toll free 1-800-647-5527.

SUPPLEMENTARY INFORMATION: On June 19, 2014, we published a Federal Register notice ¹ announcing the public availability of our draft change to NVIC 01-13 and inviting public comments, by August 18, on the draft. Today, we are extending that deadline to September 17, 2014. The NVIC provides uniform Maritime Security Program process guidance to assist vessel owners and operators, authorized classification societies, and Coast Guard personnel. Please see our June notice for further information about our proposed revisions to better facilitate the transition of vessels to U.S. registry under the MSP.

¹ 79 FR 35177.

We encourage you to submit comments or related material on the draft change to NVIC 01-13. We will consider all submissions and may adjust our final action based on your comments. Comments should be marked with docket number USCG-2011-1156 and should provide a reason for each suggestion or recommendation. You should provide personal contact information so that we can contact you if we have questions regarding your comments; but please note that all comments will be posted to the online docket without change and that any personal information you include can be searchable online.² Mailed or hand-delivered comments should be in an unbound 8½ x 11 inch format suitable for reproduction. The Docket Management Facility will acknowledge receipt of mailed comments if you enclose a stamped, self-addressed postcard or envelope with your submission.

² See the Privacy Act notice regarding DHS public dockets, 73 FR 3316 (Jan. 17, 2008).

Documents mentioned in this notice, and all public comments, are in our online docket at http://www.regulations.gov and can be viewed by following the Web site's instructions. You can also view the docket at the Docket Management Facility (see the mailing address under ADDRESSES) between 9 a.m. and 5 p.m., Monday through Friday, except Federal holidays.

This notice is issued under authority of 5 U.S.C. 552(a).

Dated: August 5, 2014.
Jonathan C. Burton,
Captain, U.S. Coast Guard, Director, Inspections and Compliance.

[FR Doc. 2014-19052 Filed 8-11-14; 8:45 am]

BILLING CODE 9110-04-P